FEDERAL COMMUNICATIONS COMMISSION

47 CFR Part 73

[DA 01-1153; MM Docket No. 01-34; RM-10061]

Radio Broadcasting Services; Warsaw, Windsor, MO

AGENCY: Federal Communications Commission.

ACTION: Final rule.

SUMMARY: The Commission, at the request of D&H Media, permittee of Station KWKJ(FM), Warsaw, Missouri, reallots Channel 253A from Warsaw to Windsor, Missouri. Channel 253A is allotted at Windsor in compliance with the Commission's minimum distance separation requirements, with respect to domestic allotments, without the imposition of a site restriction at coordinates 38-31-56 NL and 93-31-19 WL.

DATES: Effective June 18, 2001.

FOR FURTHER INFORMATION CONTACT: Victoria M. McCauley, Mass Media Bureau, (202) 418-2180.

SUPPLEMENTARY INFORMATION: This is a synopsis of the Commission's Report and Order, MM Docket No. 01-34, adopted April 25, 2001, and released May 4, 2001. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

PART 73—RADIO BROADCAST SERVICES

1. The authority citation for Part 73 continues to read as follows:

Authority: 47 U.S.C. 154, 303, 334 and 336.

§ 73.202 [Amended]

2. Section 73.202(b), the Table of FM Allotments under Missouri is amended by removing Channel 253A at Warsaw and add Windsor, Channel 253A.

Federal Communications Commission.
John A. Karousos,
Chief, Allocations Branch, Policy and Rules Division, Mass Media Bureau.

[FR Doc. 01-13450 Filed 5-29-01; 8:45 am]

BILLING CODE 6712-01-P